DEPARTMENT OF TRANSPORTATION

Federal Aviation Administration

Forty Eighth RTCA SC-206 Aeronautical Information and Meteorological Data Link Services Plenary

AGENCY: Federal Aviation Administration (FAA), U.S. Department of Transportation (DOT).

ACTION: Forty Eighth RTCA SC-206 Plenary Aeronautical Information and Meteorological Data Link Services.

SUMMARY: The FAA is issuing this notice to advise the public of a meeting of Forty Eighth RTCA SC-206 Aeronautical Information and Meteorological Data Link Services Plenary. SC-206 is a subcommittee to RTCA.

DATES: The meeting will be held September 11-15, 2017 8:30 a.m.-5:00 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Forty Eighth RTCA SC206 Plenary. The agenda will include the following:

September 11, 2017 8:30 a.m.-1:00 p.m.

Opening Plenary

(1) Opening Remarks: DFO, RTCA, And Chairman

(2) Attendees' Introduction

(3) Review and Approval Of Meeting Agenda

(4) Approval of Previous Meeting Minutes (Washington, DC)

(5) Action Item Review

(6) Sub-Groups Reports

A. SG1: CSC JC and Other SC Coordination (ISRAs)

B. SG4: EDR Guideline

C. SG5: FIS-B MOPS

(7) Discuss Rejoining With WG-76

(8) Industry Presentations

September 11, 2017, 1:00 p.m.-5:00 p.m.

Sub-Groups Meetings

September 12, 2017, 8:30 a.m.-5:00 p.m.

Sub-Groups Meetings

September 13, 2017, 8:30 a.m.-5:00 p.m.

Plenary: SG4 Frac Resolution

Sub-Group Meetings Will Resume if Frac Resolution Ends Early

September 14, 2017, 8:30 a.m.-5:00 p.m.

Sub-Groups Meetings

September 15, 2017, 8:30 a.m.-11:00 a.m.

Closing Plenary

(1) Sub-Groups Reports

(2) Decision to Approve SG4 EDR Guidance Document for PMC Review

(3) Future Meetings Plans and Dates

(4) Industry Coordination

(5) Action Item Review

(6) Other Business

(7) Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15600 Filed 7-25-17; 8:45 am]

BILLING CODE 4910-13-P